DEPARTMENT OF THE INTERIOR

Fish and Wildlife Service

M/V Selendang Ayu Natural Resource Damage Assessment

AGENCY: Fish and Wildlife Service, Interior.

ACTION: Notice of intent to conduct restoration planning.

SUMMARY: On December 8, 2004, the shipping vessel M/V Selendang Ayu ran aground and broke apart between Skan Bay and Spray Cape on Unalaska Island, in Alaska's Aleutian Islands. The vessel was carrying approximately 446,280 gallons of Intermediate Fuel Oil 380 (IFO) and 21,058 gallons of Marine Diesel Oil (MDO). Although a portion of the oils were eventually removed from the vessel, 339,538 gallons of the IFO 380 and 14,680 gallons of marine diesel were discharged into the environment over time. This Notice of Intent to Conduct Restoration Planning (Notice), issued pursuant to 15 CFR 990.44, pertains to the discharge of oil from the M/V Selendang Ayu described above (the Incident). The Unified Command for the Incident undertook response activities to clean up the discharged oil.

Under section 1006(b) of the Oil Pollution Act of 1990 (OPA), 33 U.S.C. 2706(b), the President has designated the Secretary of the U.S. Department of the Interior (DOI), represented by the Regional Director of the Fish & Wildlife Service (FWS), Alaska Region, and the Secretary of the U.S. Department of Commerce (DOC), represented by the National Oceanic Atmospheric Administration, as Federal trustees of natural resources for this Incident. The Governor of the State of Alaska has designated the Commissioners of the Alaska Departments of Fish & Game, Environmental Conservation and Natural Resources, and the Alaska Attorney General as State trustees of natural resources. The Federal and State trustees for the Incident will be referred to herein collectively as the Trustees.

The Trustees have determined that they have jurisdiction to enter into the restoration planning phase of a Natural Resource Damage Assessment under OPA and its implementing regulations and that it is appropriate to do so. The purpose of this phase is to prepare a plan for the restoration, rehabilitation, replacement or acquisition of the equivalent of the natural resources and services injured, destroyed or lost as a result of the Incident.

ADDRESSES: Alaska Regional Office, U.S. Fish and Wildlife Service, 1011 E. Tudor Road, Anchorage, AK 99503.

FOR FURTHER INFORMATION CONTACT: Jenifer Kohout, (907) 786-3687 (phone); Jenifer_Kohout@fws.gov (e-mail).

SUPPLEMENTARY INFORMATION: One of the goals of OPA is to make the environment and the public whole for injuries to natural resources and services resulting from an incident involving a discharge or substantial threat of a discharge of oil from a vessel into or upon navigable waters or adjoining shorelines. This goal is achieved through the return of the injured natural resources and services to baseline and the compensation for interim losses of such natural resources and services from the date of the incident until recovery.

To facilitate achievement of this goal, the Trustees are responsible for assessing the damages to natural resources under their trusteeship that have resulted from the Incident, developing a plan for the restoration of these resources, and pursuing from the parties responsible for the Incident (Responsible Parties) funding for the implementation of this plan or the implementation of the plan by the Responsible Parties themselves. The Trustees are proceeding in accordance with the regulations for Natural Resource Damage Assessments at 15 CFR Part 990.

The Responsible Parties include, but are not necessarily limited to, Ayu Navigation Sdn, Bhd, and IMC Shipping Pte, Ltd, which were the owner and the operator, respectively, of the M/V Selendang Ayu at the time of the Incident. The guarantor of financial responsibility for the liability of these Responsible Parties is SverigesÅngfartygs Assurans Förening (The Swedish Club).

The Trustees have performed preassessment activities in connection with the Incident, including data collection and preliminary analysis. These activities included conducting shore and skiff-based surveys to collect information about potential impacts to birds, marine mammals, fish, intertidal and subtidal biota, and associated habitats; aerial coastal and pelagic surveys and counts to determine species at risk from the Incident; surveys of subtidal habitats; surveys of anadromous fish streams; and collecting and cataloging marine bird carcasses found on beaches following the Incident. To date, the Responsible Parties have cooperated with the Trustees in the performance and/or funding of certain response, cleanup and data collection activities.

Determination of Jurisdiction

Under 15 CFR 990.41, the Federal and State natural resource trustees have determined that they have jurisdiction to pursue restoration under OPA and its implementing regulations, finding:

a. The discharge of oil beginning on or about December 8, 2004 from the M/V Selendang Ayu into the Bering Sea, off the coast of Spray Cape on Unalaska Island, was an “Incident” as defined at 15 CFR 990.30.

(1) The M/V Selendang Ayu, a “Vessel” as defined at 33 U.S.C. 2701(37), discharged the entire quantity of oil involved in this Incident.

(2) The M/V Selendang Ayu discharged oil into or upon navigable waters of the United States and adjoining shorelines, including federal and state waters adjacent to Unalaska Island, Alaska, the shoreline of Unalaska Island, and anadromous streams.

b. The Trustees have also determined that:

(1) This Incident was not permitted under Federal, State or local law;

(2) The M/V Selendang Ayu is not a “public vessel” as defined at 33 U.S.C. 2701(2), as the vessel was not owned or bareboat chartered and operated by the United States or a State or political subdivision thereof, or by a foreign nation; and

(3) The discharge of oil did not occur from an onshore facility subject to the Trans-Alaska Pipeline Authority Act, 43 U.S.C. 1651, et seq.

c. Based upon information gathered during the response, cleanup and preassessment phases, the Trustees have determined that, due to the amount and type of oil discharged, the known toxicity of the oil, the location of the discharge and the living and non-living natural resources and services in the area at the time of the discharge (including but not limited to resident and anadromous fish, shellfish, riparian and upland vegetation, invertebrates, birds marine mammals and other wildlife, stream sediments and soils, water, and public and/or cultural uses), natural resources and natural resource services under Federal and State trusteeship have been or may have been injured as a result of the Incident.

Determination to Conduct Restoration Planning

Under 15 CFR 990.42, the Federal and State natural resource trustees have determined to conduct restoration planning under OPA and its implementing regulations, finding:

a. Based on data collected and analyzed under 15 CFR 990.43, injuries to natural resources and services have resulted or are likely to result from the Incident, including, but not necessarily limited to, injuries to waterfowl, seabirds, intertidal biota, marine mammals, terrestrial vegetation, subtidal resources, fish and shellfish and associated cultural uses.

b. Response actions have not adequately addressed the injuries resulting from the Incident. Response efforts included, but were not limited to, attempting to boom sensitive fish streams; removing oil from the wreck; removing dead bird and sea otter carcasses; capturing, cleaning and rehabilitating live oiled birds; temporarily closing fisheries; sampling marine waters that might affect ongoing fisheries; recovering stranded oil on shorelines; performing manual and mechanical cleanup operations; and testing fish and invertebrates used for commercial and subsistence purposes. While these actions may have reduced the number and magnitude of future injuries, they did not adequately address the mortality and possible sublethal effects to natural resources and services injured from the Incident. Further, cleanup activities likely caused additional injuries to certain natural resources, including, but not necessarily limited to, terrestrial vegetation and intertidal biota.

c. Feasible primary and/or compensatory restoration actions exist to address injuries from the Incident. Feasible restoration actions relevant to the injuries may include, but are not limited to:

(1) Waste oil recovery at Dutch Harbor/Unalaska to restore sea ducks, marine mammals, intertidal and subtidal biota, fish and shellfish and human uses of those resources;

(2) Removal of introduced terrestrial invasive species, such as rats or fox, that prey on or compete with marine birds on certain islands of the Alaska Maritime National Wildlife Refuge to restore marine birds and their habitat;

(3) Debris removal on Unalaska Island or elsewhere in the Aleutians to restore habitat for intertidal biota and marine mammals;

(4) Habitat protection in the nesting areas of waterfowl injured by the spill;

(5) Salmon restoration in Unalaska (sockeye) or Summers Bay (coho) lakes; and

(6) Education and outreach on Unalaska Island related to subsistence and cultural resources.

Data supporting these determinations are contained in the Administrative Record established for this case (see below).

Based upon the foregoing determinations, the Trustees have determined to conduct restoration planning for the Incident.

Opportunity To Comment

Under 15 CFR 990.14(d), the Trustees will seek public involvement in restoration planning for this Incident through, at minimum, public review of and comment on the Draft Restoration Plan. When the Draft Restoration Plan is prepared, the public will be notified of the opportunity to comment. Questions regarding this Notice may be directed to: Jenifer Kohout, (907) 786-3687 (phone); Jenifer_Kohout@fws.gov (e-mail).

Administrative Record

The Trustees have opened an Administrative Record (Record) in compliance with 15 CFR 990.45. The Record will include documents relied upon by the Trustees during the natural resource damage assessment performed in connection with this Incident. The Record is on file at the FWS Alaska Regional Office (see ADDRESSES). To review the Record, contact Jenifer Kohout (see FOR FURTHER INFORMATION CONTACT). In addition, the index and other key elements of the Record will be posted at http://www.r7.fws.gov/fisheries/contaminants/spill/sa_record.htm on the FWS Alaska Region Web site.

Thomas O. Melius,
Regional Director.

[FR Doc. E7-5130 Filed 3-29-07; 8:45 am]

BILLING CODE 4310-55-P